DEPARTMENT OF COMMERCE

National Oceanic and Atmospheric Administration

50 CFR Part 216

[Docket No. 140304190-4612-02]

RIN 0648-BE03

Subsistence Taking of Northern Fur Seals on the Pribilof Islands; Final Annual Harvest Estimates for 2014-2016

AGENCY: National Marine Fisheries Service (NMFS), National Oceanic and Atmospheric Administration (NOAA), Commerce.

ACTION: Final rule; estimates of annual fur seal subsistence needs.

SUMMARY: Pursuant to the regulations governing the subsistence taking of northern fur seals, NMFS is publishing the annual fur seal subsistence harvests on St. George and St. Paul Islands, Alaska (the Pribilof Islands) for 2011-2013 and the annual estimates of fur seal subsistence harvests for 2014-2016. NMFS estimates the annual subsistence needs for 2014-2016 are 1,645-2,000 fur seals on St. Paul and 300-500 fur seals on St. George.

DATES: Effective September 5, 2014.

ADDRESSES: More information about northern fur seal subsistence harvest management can be found on the Internet at https://alaskafisheries.noaa.gov/protectedresources/seals/fur.htm.

FOR FURTHER INFORMATION CONTACT: Michael Williams, NMFS Alaska Region, 907-271-5117, Michael.Williams@noaa.gov; or Shannon Bettridge, NMFS Office of Protected Resources, 301-427-8402, Shannon.Bettridge@noaa.gov.

SUPPLEMENTARY INFORMATION:

Background

The subsistence harvest from the depleted stock of northern fur seals (Callorhinus ursinus), on the Pribilof Islands, AK, is governed by regulations found in 50 CFR part 216, subpart F. Pursuant to the regulations governing the taking of fur seals for subsistence purposes, NMFS must publish a summary of the fur seal harvest for the previous 3-year period and an estimate of the number of seals expected to be taken in the subsequent 3-year period to meet the subsistence needs of the Aleut residents of the Pribilof Islands. After a 30-day comment period, NMFS must publish a final notification of the expected annual harvest levels for the next 3 years.

On May 14, 2014 (79 FR 27550), NMFS published the summary of the 2011-2013 fur seal harvests and provided a 30-day comment period on the estimates of subsistence needs for 2014-2016. In that notice, NMFS estimated the annual subsistence needs for 2014-2016 would be 1,645-2,000 fur seals on St. Paul Island and 300-500 fur seals on St. George Island and provided background information related to these estimates.

Summary of Changes From Proposed Annual Harvest Estimates

NMFS did not make any changes in this final notice of annual harvest estimates. The subsistence need remains the same and therefore the annual harvest estimate remains 1,645-2,000 fur seals on St. Paul Island and 300-500 fur seals on St. George Island.

Comments and Response

NMFS received one comment letter on the notice of the 2014-2016 proposed annual harvest estimates (79 FR 27550; May 14, 2014). A summary of the comment received and NMFS's response follows.

Comment: Stop the northern fur seal harvest. The reported killings are over 2,500 animals thus the illegal kills must be about 4,500 seals.

Response: The Fur Seal Act and Marine Mammal Protection Act both provide exemptions for the subsistence harvest of northern fur seals to meet the dietary and cultural needs of the Pribilof Island Alaska Native residents (Pribilovians). The reported annual subsistence harvest of fur seals for both islands combined did not exceed 500 sub-adult fur seals during the 2011-2013 period and was well below the published subsistence need estimate of 2,500 sub-adult seals. NMFS works in partnership with the Pribilovians under co-management agreements pursuant to the Marine Mammal Protection Act to discourage and minimize illegal harvests, and NMFS's Office of Law Enforcement has a periodic presence on the Pribilof Islands to discourage, detect, and investigate any illegal harvests.

Classification

National Environmental Policy Act

NMFS prepared an Environmental Impact Statement evaluating the impacts on the human environment of the subsistence harvest of northern fur seals, which is available on the NMFS Web site (see Electronic Access).

Executive Order 12866 and Regulatory Flexibility Act

This final action is exempt from the procedures of E.O. 12866 because the action contains no implementing regulations.

The Chief Counsel for Regulation, Department of Commerce, certified to the Chief Counsel for Advocacy of the Small Business Administration that this action would not have a significant economic impact on a substantial number of small entities. The harvest of northern fur seals on the Pribilof Islands, Alaska, is for subsistence purposes only, and the estimate of subsistence need would not have an adverse economic impact on any small entities. Background information related to the certification was included in the proposed estimates published in the Federal Register on May 14, 2014 (79 FR 27550). We received no comments on this certification; therefore a regulatory flexibility analysis is not required for this action, and none has been prepared.

Paperwork Reduction Act

This final action does not require the collection of information.

Executive Order 13132—Federalism

This action does not contain policies with federalism implications sufficient to warrant preparation of a federalism assessment under E.O. 13132 because this action does not have substantial direct effects on the states, on the relationship between the national government and the states, or on the distribution of power and responsibilities among the various levels of government. Nonetheless, NMFS worked closely with local governments in the Pribilof Islands, and these estimates of subsistence harvests were prepared by the local governments in St. Paul and St. George, with assistance from NMFS officials.

Executive Order 13175—Native Consultation

Executive Order 13175 of November 6, 2000 (25 U.S.C. 450 Note), the executive Memorandum of April 29, 1994 (25 U.S.C. 450 note), the American Indian Native Policy of the U.S. Department of Commerce (March 30, 1995), the Department of Commerce's Tribal Consultation Policy (including the Department of Commerce Administrative Order 218-8, April 26, 2012), and the NOAA Procedures for Government-to-Government Consultation With Federally Recognized Indian Tribes and Alaska Native Corporations (November 12, 2013) outline the responsibilities of the National Marine Fisheries Service in matters affecting tribal interests. Section 161 of Public Law 108-100 (188 Stat. 452) as amended by section 518 of Public Law 108-447 (118 Stat. 3267), extends the consultation requirements of E.O. 13175 to Alaska Native corporations. NMFS contacted the tribal governments of St. Paul and St. George Islands and their respective local Native corporations (Tanadgusix and Tanaq) about setting the next three years harvest estimates and incorporated their input.

Electronic Access

An Environmental Impact Statement, harvest reports, and other relevant information are available on the Internet at the following address: http://alaskafisheries.noaa.gov/protectedresources/seals/fur.htm.

Dated: July 31, 2014.
Samuel D. Rauch, III,
Deputy Assistant Administrator for Regulatory Programs, National Marine Fisheries Service.

[FR Doc. 2014-18610 Filed 8-5-14; 8:45 am]

BILLING CODE 3510-22-P